DEPARTMENT OF TRANSPORTATION

Federal Highway Administration

Environmental Impact Statement: Lafourche and St. Charles Parishes, LA

AGENCY: Federal Highway Administration (FHWA) DOT.

ACTION: Notice of intent.

SUMMARY: The FHWA is issuing this notice to advise interested agencies and the public that, in accordance with the National Environmental Policy Act (NEPA), an Environmental Impact Statement (EIS) will be prepared for a proposed road project (State Project Nol 700-92-0011 and Federal Aid Project No. NH-9201(501)) in Lafourche and St. Charles Parishes, Louisiana.

FOR FURTHER INFORMATION CONTACT: William C. Farr, Programs Operations Manager, Federal Highway Administration, 5304 Flanders Drive, Sutie A, Baton Rouge, Louisiana 70808, Telephone: (225) 757-7615; Facsimile (225) 757-7601 or Vincent Russo, Environmental Engineer Administrator, Louisiana Department of Transportation and Development, P.O. Box 94245, Baton Rouge, Louisiana 70804, Telephone: (225) 248-4191; Facsimile: (225) 248-4188.

SUPPLEMENTARY INFORMATION: The FHWA, in cooperation with the Louisiana Department of Transportation and Development (LaDOTD), will prepare an EIS on a proposal to upgrade a portion of U.S. Highway 90 (US 90) to full “Control of Access” highway meeting interstate standards. US 90 would become an extension of Interstate 49 (I-49). The project consists of the proposed I-49 extension from Raceland to the Davis Pond Diversion. The approximate distance of the project is 23 miles.

Proposed I-49 south is comprised of approximately 143 miles of US 90 from Lafayette to the Westbank Expressway in Jefferson Parish. This project is intended to provide traffic safety, a primary hurricane evacuation route serving 37% of Louisiana's population, access to nine airports and four of Louisiana's seven deep draft ports, and provide a vital link for economic development of the region.

Studies have been completed on the I-49 Connector (US 90/US 167) in Lafayette and studies are being completed oin the Lafayette Regional Airport to Route LA 88 and the Wax Lake Outlet to Berwick sections of I-49 South. This proposed EIS addresses the Raceland to Davis Pond section of I-49 South, herein after referred to as Section of Independent Utility (SIU) 1. More specifically, this project will involve preliminary environmental (including social environment) and engineering constraints studies, the development of concept line and grade alternatives, intitial impact evaluation, more detailed study of line and grade alternatives and environmental impact, the development of a draft EIS, a public hearing, preparation of a final EIS with complete, detailed environmental and line and grade studies, and a Record of Decision.

A Solicition of Views (SOV) letter will be submitted for distribution to representatives on the SOV mailing list. After mailing of the SOV, a scoping meeting will be held with LADOTD and interested agencies. A public meeting will be scheduled in both of the affected parishes to introduce the project and receive public comment after the initial scoping meeting with LaDOTD. There will be a total of three public meetings and one public hearing in each parish (Lafourche and St. Charles Parishes) throughout the NEPA process to present findings to the public and obtain public input. Additionally, small group informational meetings may be held at the request of commumity groups throughout the project.

Interested individuals, organizations, and public agencies are invited to attend the public meetings and participate in identifying any important environmental issues related to the proposed alternatives and suggesting alternatives which are more economical or which have less environmental effects while achieving similar transportation objectives.

To ensure that the full range of issues related to this proposed action is addressed, and all significant issues identified, comments and suggestions are invited from all interested parties. Comments or questions concerning this proposed action and the EIS should be directed to the FHWA at the address provided above.

The public will receive notices on location and time of future opportunities for participation at meetings and public hearings through newspaper advertisements and other means. If you wish to be placed on the mailing list to receive further information as the project develops, please contact Mr. William Farr with FHWA or Mr. Vincent Russo with LaDOTD at the addresses above.

In accordance with the regulations and guidance by the Council on Environmental Quality (CEQ), as well as 23 CFR part 450 and 23 policies; the EIS will include an evaluation of the social, economic, and environmental impacts of the alternatives. The EIS will comply with the requirements of the Clean Air Act Amendments of 1990 and with Executive Order 12898 on Environmental Justice. The EIS will meet the requirements of the U.S. Environmental Protection Agency's transportation conformity regulations (40 CFR part 93 and 23 CFR 450.322(b)(8)). After publication, the draft EIS will be available for public agency review and comment.

The Final EIS will consider the public and agency comments received during the public and agency circulation of the EIS and will identify the preferred alternative. Opportunity for additional public comment will be provided throughout all phases of the project development.

(Catalog of Federal Domestic Assistance Program Number 20.205, Highway Planning and Construction. The regulations implementing Executive Order 12372 regarding intergovernmental consultation on Federal programs and activities apply to this program)
Dated: Issued on April 1, 2003.
William A. Sussmann,
Division Administrator, FHWA, Baton Rouge, Louisiana.

[FR Doc. 03-8330 Filed 4-4-03; 8:45 am]

BILLING CODE 4910-22-M